DEPARTMENT OF VETERANS AFFAIRS

[OMB Control No. 2900-0016]

Agency Information Collection Activity Under OMB Review: Claim for Disability Insurance Benefits, Government Life Insurance

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by September 29, 2025.

ADDRESSES: To submit comments and recommendations for the proposed information collection, please type the following link into your browser: www.reginfo.gov/public/do/PRAMain, select “Currently under Review—Open for Public Comments”, then search the list for the information collection by Title or “OMB Control No. 2900-0016.”

FOR FURTHER INFORMATION CONTACT: VA PRA information: Dorothy Glasgow, (202) 461-1084, VAPRA@va.gov.

SUPPLEMENTARY INFORMATION:

Title: Claim for Disability Insurance Benefits (VA Form 29-357).

OMB Control Number: 2900-0016 https://www.reginfo.gov/public/do/PRASearch.

Type of Review: Extension without change of a currently approved collection.

Abstract: This form is used by the policyholder to claim disability insurance benefits on S-DVI, NSLI and USGLI policies. The information requested is authorized by law, 38 U.S.C. 1912, 1915, 1922, 1942 and 1948.

An agency may not conduct or sponsor, and a person is not required to respond to a collection of information unless it displays a currently valid OMB control number. The Federal Register Notice with a 60-day comment period soliciting comments on this collection of information was published at 90 FR 27759, June 27, 2025.

Affected Public: Individuals or Households.

Estimated Annual Burden: 14,175.

Estimated Average Burden per Respondent: 1 Hour and 45 minutes.

Frequency of Response: One time.

Estimated Number of Respondents: 8,100.

(Authority: 44 U.S.C. 3501 et seq.)

Dorothy Glasgow,
Acting, VA PRA Clearance Officer, Office of Enterprise and Integration, Data Governance Analytics, Department of Veterans Affairs.

[FR Doc. 2025-16592 Filed 8-28-25; 8:45 am]

BILLING CODE 8320-01-P